DEPARTMENT OF THE INTERIOR

Bureau of Indian Affairs

Electric Utility Power Rate and Service Fee Adjustment, Mission Valley Power

AGENCY: Bureau of Indian Affairs, Interior.

ACTION: Notice of rate adjustment.

SUMMARY: The Bureau of Indian Affairs (BIA) adjusted the electric power rates for operation and maintenance assessed to customers of the Mission Valley Power (MVP) Utility. MVP is a tribal enterprise of the Confederated Salish and Kootenai Tribes (Tribes) operating and maintaining the federally-owned power utility on the Flathead Indian Reservation under the authority of a Public Law 93-638 contract. These rates will remain in effect until we provide notice of a separate rate adjustment.

EFFECTIVE DATE: The new rates were effective November 1, 2001.

FOR FURTHER INFORMATION CONTACT: Stanley Speaks, Regional Director, Bureau of Indian Affairs, Northwest Regional Office, 911 NE 11th Avenue, Portland, Oregon 97232-4169, Telephone (503) 231-6702.

SUPPLEMENTARY INFORMATION: A notice of Proposed Rate Adjustment was published in the Federal Register on December 14, 2001 at 66 FR 64853. The public and interested parties were provided an opportunity to submit written comments during the 60-day period subsequent to December 14, 2001. No comments were received.

Where Can Information on the Regulatory and Legal Citations in This Notice Be Obtained?

You can contact the Northwest Regional Director's office at the location stated in FOR FURTHER INFORMATION CONTACT section or you can use the Internet site for the Government Printing Office at http://www.gpo.gov.

What Is the Purpose of This Notice?

This notice is to notify you that we adjusted the power rates and service fees for one of our power utilities. We are publishing this notice in accordance with the BIA's regulations governing its power rates and service fees of power utilities, specifically, 25 CFR 175.10-175.12. These sections provide for the fixing and announcing of power rates and related information for BIA Indian Electric Power Utilities.

What Authorizes Us To Issue This Notice?

Our authority to issue this notice is vested in the Secretary of the Interior by 5 U.S.C. 301, and the Act of August 7, 1946 (60 Stat. 895; 25 U.S.C. 385). The Secretary has delegated this authority to the Assistant Secretary—Indian Affairs under part 209 of the Department of the Interior's Departmental Manual, Chapter 8.1A, and by memorandum dated January 25, 1994, from the Chief of Staff, Department of the Interior, to Assistant Secretaries and Heads of Bureaus and Offices.

What Are the Final Adjusted Power Rates and Service Fees?

The following table shows the rates and fees:

Rate class | Rate
Residential:
Basic charge per month | $5.00
Energy charge per kilowatt-hour | 0.04739
Minimum Monthly Charge | 10.00
General Service without demand (See note at the end of this table):
Basic charge per month | 5.00
Energy Rate per kilowatt-hour | 0.05495
General Service with demand charge:
Single phase service basic charge per month | 20.00
Three-phase service basic charges per month | 40.00
Demand charge per kilowatt of billing demand | 4.10
Energy charge per kilowatt-hour | 0.03735
Large commercial service:
Basic charge per month | 125.00
Demand charge per kilowatt of billing demand | 5.00
Energy charge per kilowatt-hour | 0.03115
Irrigation pump service:
Seasonal charge (whichever is greater):
Minimum charge, or | 132.00
Charge per horsepower | 6.00
Monthly charge per rated horsepower of pump | 11.05
Energy charge per kilowatt-hour | 0.03586
Area lighting rate class, monthly charge:
Install on existing pole or structure:
7,000 lumen, mercury vapor unit (existing only) | 7.20
20,000 lumen, mercury vapor unit (existing only) | 10.30
9,000 lumen, high-pressure sodium unit | 6.70
22,000 lumen, high-pressure sodium unit | 9.00
Install with new pole:
7,000 lumen, mercury vapor unit (existing only) | 9.05
20,000 lumen, mercury vapor unit (existing only) | 11.85
9,000 lumen, high-pressure sodium unit | 8.50
22,000 lumen, high-pressure sodium unit | 10.85
Street lighting service:
Metered Service (not including street light fixtures):
Basic monthly charge | 5.00
Energy charge | 0.05495
Unmetered service:
This rate class is available only to municipalities or communities for ten or more lighting units in a group. The charges for this service are subject to a negotiated contract with MVP | (¹)
Unmetered service charge per month:
Charges for an unmetered service under the present rate structure are determined on an individual basis. The rate for this service is a flat monthly charge (unmetered street light service is not part of this rate class) | 15.00
¹ Negotiated.
Note: This rate was titled “Small commercial without demand” in the Notice of proposed rate adjustment published in the Federal Register on December 14, 2001 at 66 FR 64853. This notice corrects the title to “General service without demand”. This rate title change has no effect on the proposed or final rates.

Consultation and Coordination With Tribal Governments (Executive Order 13175)

The Tribes operate the utility under a Public Law 93-638, as amended, contract. As part of the contractual relationship, there are continuing consultations between the Tribes and the BIA. These consultations meet the spirit and intent of the Executive Order.

Actions Concerning Regulations That Significantly Affect Energy Supply, Distribution, or Use (Executive Order 13211)

This is a final notice for a rate adjustment at a BIA-owned electric power utility. These rate adjustments have no adverse effects on energy supply, distribution, or use (including a shortfall in supply, price increases, and increased use of foreign supplies) when implemented.

Regulatory Planning and Review (Executive Order 12866)

This rate adjustment is not a significant regulatory action and does not need to be reviewed by the Office of Management and Budget under Executive Order 12866.

Regulatory Flexibility Act

This rate adjustment is not a rule for the purposes of the Regulatory Flexibility Act because it is “a rule of particular applicability relating to rates.” 5 U.S.C. 601(2)(1996).

Unfunded Mandates Reform Act of 1995

This rate adjustment imposes no unfunded mandates on any governmental or private entity and is in compliance with the provisions of the Unfunded Mandates Reform Act of 1995.

Takings (Executive Order 12630)

The Department of the Interior (Department) has determined that this rate adjustment does not have significant “takings” implications. The rate adjustment does not deprive the public, state, or local governments of rights or property.

Federalism (Executive Order 13132)

The Department has determined that this rate adjustment does not have significant Federalism effects because it pertains solely to Federal-tribal relations and will not interfere with the roles, rights, and responsibilities of states.

Civil Justice Reform (Executive Order 12988)

In accordance with Executive Order 12988, the Office of the Solicitor has determined that this rule does not unduly burden the judicial system and meets the requirements of sections 3(a) and 3(b)(2) of the Order.

Paperwork Reduction Act of 1995

This rate adjustment does not affect the collections of information which have been approved by the Office of Information and Regulatory Affairs, Office of Management and Budget (OMB), under the Paperwork Reduction Act of 1995. The OMB control number is 1076-0141 and expires November 30, 2002.

National Environmental Policy Act

The Department has determined that this rate adjustment does not constitute a major Federal action significantly affecting the quality of the human environment and that no detailed statement is required under the National Environmental Policy Act.

Dated: April 8, 2002.
Neal A. McCaleb,
Assistant Secretary—Indian Affairs.

[FR Doc. 02-10264 Filed 4-25-02; 8:45 am]

BILLING CODE 4310-W7-P